DEPARTMENT OF COMMERCE

Census Bureau

[Docket Number: 231218-0307]

RIN 0607-XC073

Draft Plan for Providing Public Access to the Results of Federally Funded Research

AGENCY: Census Bureau, Department of Commerce.

ACTION: Notice; request for public comment.

SUMMARY: The United States Census Bureau seeks comments on the Draft U.S. Census Bureau Plan for Providing Public Access to Results of Federally Funded Research. The Census Bureau is taking steps to make its scientific data and publications more readily available and accessible by the public, as directed in an August 2022 Memorandum from the Office of Science and Technology Policy (OSTP). The Census Bureau's Public Access Plan applies to the results of research funded wholly or in part by the Census Bureau, presented in peer-reviewed scholarly publications including book chapters and peer-reviewed conference proceedings as appropriate, and scientific data as defined in the OSTP Memo. The document outlines the Census Bureau's plan for implementing new requirements to manage the public access of scientific data and publications. Public comments received on the Public Access Plan will inform Census Bureau as it develops policies and procedures to implement the Plan.

DATES: Responses must be received by 11:59 p.m. Eastern Time on March 12, 2024 to be considered.

ADDRESSES: Comments may be submitted by either of the following methods:

• Electronic submission: Submit electronic public comments via the Federal eRulemaking Portal.

1. Go to www.regulations.gov and enter Docket Number USBC-2023-0015 in the search field.

2. Click the “Comment Now!” icon, complete the required fields.

3. Enter or attach your comments.

• By email: Comments in electronic form may also be sent to pco.policy.office@census.gov in any of the following formats: HTML, ASCII, Word, RTF, or PDF.

Please submit comments only and include your name, organization's name (if any), and cite “Census Bureau Public Access Plan” in all correspondence. Comments containing references, studies, research, and other empirical data that are not widely published should include copies of the referenced materials.

All comments responding to this document will be a matter of public record. Relevant comments will generally be available on the Federal eRulemaking Portal at https://www.Regulations.gov.

The Census Bureau will not accept comments accompanied by a request that part or all of the material be treated confidentially because of its business proprietary nature or for any other reason. Therefore, do not submit confidential business information or otherwise sensitive, protected, or personal information, such as account numbers, Social Security numbers, or names of other individuals.

FOR FURTHER INFORMATION CONTACT: For questions about this notice contact: Mike Castro, email address michael.castro@census.gov, (301) 763-6280. Please direct media inquiries to the Census Bureau's Public Information office at 301-763-3030.

SUPPLEMENTARY INFORMATION: The U.S. Census Bureau (Census Bureau) mission is to serve as the nation's leading provider of quality data about its people and economy. This can be accomplished in part through equitable delivery of federally funded research results and data.

The Census Bureau publishes this notice to seek comments on the Draft U.S. Census Bureau Plan for Providing Public Access to Results of Federally Funded Research, posted at www.census.gov/open. The Census Bureau developed this Public Access Plan in response to a public access memorandum, Ensuring Free, Immediate, and Equitable Access to Federally Funded Research issued by the Office of Science and Technology Policy (OSTP) on August 25, 2022 which expanded on the February 22, 2013, memorandum Increasing Access to the Results of Federally Funded Scientific Research and brought the Census Bureau's research activities in scope.

The Draft U.S. Census Bureau Plan for Providing Public Access to Results of Federally Funded Research applies to the results of research funded wholly or in part by the Census Bureau, presented in peer-reviewed scholarly publications including book chapters and peer-reviewed conference proceedings as appropriate, and “scientific data” as defined in the OSTP memorandum. This Public Access Plan, promotes the following objectives:

• Fulfill the requirement in the Office of Science and Technology Policy (OSTP's) August 25, 2022, memorandum subject “Ensuring Free, Immediate, and Equitable Access to Federally Funded Research” to develop a Public Access Plan.

• Reaffirm the Census Bureau's commitments to

• promote open science including reproducibility and trust in federal statistics;

• be transparent with respondents about how their data is used; and

• protect respondent privacy and confidentiality.

• Ensure effective access to and reliable preservation of Census Bureau peer-reviewed scholarly publications and digital scientific data for use in research, development, education, and scientific discovery by depositing them in appropriate repositories, including data repositories that align with the OSTP's guidance on “Desirable Characteristics of Data Repositories for Federally Funded Research.”

The Census Bureau Public Access Plan was reviewed by the Office of Science and Technology Policy in the Office of Management and Budget, and those comments have been addressed in the plan being posted for comment.

The Census Bureau invites respondents to comment on the plan including, but not limited to, the following questions that pertain to the implementation its new public access plan:

• What are the best practices (from academia, industry, and other stakeholder communities) in managing public access of data and research results?

• What are the biggest challenges to implementing a public access policy, and how can these challenges be addressed?

• How can the Census Bureau ensure equity in publication opportunities?

• How can the Census Bureau ensure public access and accessibility to outputs of Census Bureau-funded research?

• How can the Census Bureau monitor impacts on affected communities—authors and readers alike?

• How can the Census Bureau improve the plan to provide greater public access to Census Bureau-funded research results?

Comments relating to the text of the Draft U.S. Census Bureau Plan for Providing Public Access to Results of Federally Funded Research should reference the document by page and line number. All comments must be received in accordance with the DATES and ADDRESSES sections of the notice above.

Robert L. Santos, Director, Census Bureau, approved the publication of this notice in the Federal Register.

Dated: January 4, 2024.
Shannon Wink,
Program Analyst, Policy Coordination Office, U.S. Census Bureau.

[FR Doc. 2024-00538 Filed 1-11-24; 8:45 am]

BILLING CODE 3510-07-P